DEPARTMENT OF THE INTERIOR

Bureau of Land Management

[AK-930-04-1310-DB]

Notice of Extension of the Public Comment Period for the Northeast National Petroleum Reserve-Alaska, Draft Environmental Impact Statement/Integrated Activity Plan Amendment

AGENCY: Bureau of Land Management, Interior.

ACTION: Notice of Extension of the Public Comment Period for the Northeast National Petroleum Reserve-Alaska, Draft Environmental Impact Statement/Integrated Activity Plan Amendment.

SUMMARY: The Bureau of Land Management (BLM) announces an extension of the public comment period on the Northeast National Petroleum Reserve-Alaska, Draft Environmental Impact Statement/Integrated Activity Plan Amendment. The original notice issued June 18, 2004 provided for a comment period to end on August 2, 2004. BLM is extending the comment period until August 23, 2004.

DATES: Written comments on issues relating to the future land use, planning, and management of the Northeast corner of National Petroleum Reserve-Alaska must be submitted or postmarked no later than August 23, 2004.

ADDRESSES: Comments on the document should be addressed to: Susan Childs, Project Manager, Northeast National Petroleum Reserve-Alaska Plan Amendment, Bureau of Land Management, Alaska State Office (930), 222 West 7th Avenue, Anchorage, Alaska 99513-7599. Comments can also be submitted by accessing the Web site developed for this project at http://nenpra.ensr.com.

FOR FURTHER INFORMATION CONTACT: Susan Childs, BLM Alaska State Office, 907-271-1985 or by mail at 222 West 7th Avenue, Anchorage, Alaska 99513-7599.

SUPPLEMENTARY INFORMATION: The original Notice of Availability issued on June 18, 2004 provided for comments on the Draft EIS to be received through August 2, 2004. The North Slope Borough, the local government for the plan area, has requested an extension in the comment period. BLM has decided to act in accordance to the Borough's request, therefore, comments on the Draft EIS Amendment and on issues relevant to the review of the proposed plan amendment will now be accepted through August 23, 2004.

Dated: June 29, 2004.
Henri Bisson,
State Director.

[FR Doc. 04-17092 Filed 7-29-04; 8:45 am]

BILLING CODE 4310-AG-P